DEPARTMENT OF ENERGY

Federal Energy Regulatory Commission

Combined Notice of Filings

Take notice that the Commission has received the following Natural Gas Pipeline Rate and Refund Report filings:

Filings Instituting Proceedings

Docket Numbers: RP13-316-000.

Applicants: Tallgrass Interstate Gas Transmission, L.

Description: Compliance filing per 154.501: TIGT 2015 Annual Reconciliation Filing to be effective.

Filed Date: 12/28/15.

Accession Number: 20151228-5086.

Comments Due: 5 p.m. ET 1/11/16.

Docket Numbers: RP16-322-000.

Applicants: Dominion Carolina Gas Transmission, LLC.

Description: Interruptible Revenue Sharing Report for 2015 of Dominion Carolina Gas Transmission, LLC under RP16-322.

Filed Date: 12/28/15.

Accession Number: 20151228-5154.

Comments Due: 5 p.m. ET 1/11/16.

Docket Numbers: RP16-323-000.

Applicants: Kern River Gas Transmission Company.

Description: Section 4(d) rate filing per 154.204: 2015 Meter Modifications to be effective 2/1/2016.

Filed Date: 12/28/15.

Accession Number: 20151228-5172.

Comments Due: 5 p.m. ET 1/11/16.

Docket Numbers: RP16-324-000.

Applicants: Trailblazer Pipeline Company LLC.

Description: Section 4(d) rate filing per 154.204: Neg Rate 2015-12-28 Koch to be effective 1/1/2016.

Filed Date: 12/28/15.

Accession Number: 20151228-5191.

Comments Due: 5 p.m. ET 1/11/16.

Docket Numbers: RP16-325-000.

Applicants: Florida Gas Transmission Company, LLC.

Description: Compliance filing per 154.203: Annual Accounting Report filing on 12/29/15.

Filed Date: 12/29/15.

Accession Number: 20151229-5093.

Comments Due: 5 p.m. ET 1/11/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2015.
Nathaniel J. Davis, Sr.,
Deputy Secretary.

[FR Doc. 2015-33129 Filed 1-4-16; 8:45 am]

BILLING CODE 6717-01-P